FEDERAL COMMUNICATIONS COMMISSION

[DA 04-3050]

Bureau Begins Audit of Operational Status of Licenses in the Paging and Radiotelephone Service and 929-930 MHz Band Exclusive Private Carrier Paging Channels

AGENCY: Federal Communications Commission.

ACTION: Notice.

SUMMARY: In this document the Wireless Telecommunications Bureau (Bureau) announces it has mailed audit letters to licensees of all site-specific licenses operating under part 22, Paging and Radiotelephone Service with “CD” radio service code and all site-specific licenses operating in the 929-930 MHz band on exclusive private carrier paging channels with “GS” radio service. Licensees must respond to the audit letter, electronically, by November 12, 2004.

ADDRESSES: Federal Communications Commission 445 12th Street, SW., TW-A325, Washington, DC 20554.

FOR FURTHER INFORMATION CONTACT: Denise D. Walter, Mobility Division, at 202-418-0620.

SUPPLEMENTARY INFORMATION: This is a summary of the Federal Communications Commission's Public Notice, DA 04-3050, released on September 29, 2004. The full text of this document is available for inspection and copying during normal business hours in the Federal Communications Commission Reference Center, 445 12th Street, SW., Washington, DC 20554. The complete text may be purchased from the Federal Communications Commission's copy contractor, Best Copy and Printing, Inc, 445 12th Street, SW., Room CY-B402, Washington, DC 20554. The full text may also be downloaded at http://wireless.fcc.gov. Alternative formats are available to persons with disabilities by contacting Brian Millin at (202) 418-7426 or TTY (202) 418-7365 or at bmillin@fcc.gov.

1. On September 28, 2004, the Federal Communications Commission's (Commission) Wireless Telecommunications Bureau (Bureau) began its license audit of the operational status all site-specific licenses authorized in the Paging and Radiotelephone Service, part 22, subpart E, and site-specific licenses authorized on private carrier paging exclusive channels in the 929-930 MHz band, part 90, subpart P.

2. Every licensee holding authorizations in the above radio services must respond and certify, by November 12, 2004, that its authorized station(s) has not permanently discontinued operations from the date of initial constriction and operation pursuant to 47 CFR 22.317.

3. Audit letters were mailed to the licensees at their address of record. If a licensee received more than one audit letter, they must respond to each letter sent by the Commission in order to account for all of its call signs that are part of the audit. Licensees can use the Audit Search at http://wireless.fcc.gov/licensing/audits/paging to determine if a particular call sign is part of the audit. If the Audit Search shows a letter was mailed, the licensee is required to respond to the audit even though the audit letter was not received. For instructions on how to proceed in this instance, licensees should call the Commission at 717-338-2888 or 888-CALLFCC (888-225-5322) and select option 2.

4. The process for responding to the audit was included in the audit letter. A response is mandatory and must be submitted electronically by November 12, 2004. Failure to provide a timely response may result in the Commission presuming that the station(s) has permanently discontinued operations as described under 47 CFR 22.317, and thus the license may be presumed to have automatically cancelled. Failure to provide a timely response may also result in an enforcement action, including monetary forfeiture, pursuant to section 503(b)(1)(B) of the Communications Act and 47 CFR 1.80(a)(2).

Federal Communications Commission.
Linda Chang,
Associate Chief, Mobility Division.

[FR Doc. 04-22843 Filed 10-8-04; 8:45 am]

BILLING CODE 6712-01-P